DEPARTMENT OF TRANSPORTATION

Federal Aviation Administration

14 CFR Part 25

[Docket No. NM398; Notice No. 25-09-01-SC]

Special Conditions: Model C-27J Airplane; Interaction of Systems and Structures

AGENCY: Federal Aviation Administration (FAA), DOT.

ACTION: Notice of proposed special conditions, withdrawal.

SUMMARY: The FAA is withdrawing a previously published notice that proposed special conditions for the Alenia Model C-27J airplane. We are withdrawing the notice in response to a White House request that appointees and designees be provided an opportunity to review new and pending regulations.

FOR FURTHER INFORMATION CONTACT: Holly Thorson, FAA, International Branch, ANM-116, Transport Airplane Directorate, Aircraft Certification Service, 1601 Lind Avenue, SW., Renton, Washington 98057-3356; telephone (425) 227-1357, facsimile 425-227-1149.

SUPPLEMENTARY INFORMATION:

Background

On January 26, 2009, the FAA published a Notice of proposed special conditions, Notice No. 25-09-01-SC, for the Model C-27J airplane on the subject of interaction of systems and structures (74 FR 4353). The C-27J airplane has novel or unusual design features when compared to the state of technology described in the airworthiness standards for transport category airplanes. These design features include electronic flight control systems. The proposed special conditions pertain to the effects of novel or unusual design features such as effects on the structural performance of the airplane. We requested comments on these proposed special conditions by February 25, 2009.

Reason for Withdrawal

We are withdrawing Notice No. 25-09-01-SC because of a White House memorandum, dated January 20, 2009, signed by the Assistant to the President and Chief of Staff as directed to the heads of executive departments and agencies. The memorandum stated the importance of the President's appointees and designees having the opportunity to review and approve any new or pending regulations. The subject Notice of proposed special conditions was inadvertently published without this review.

Conclusion

Withdrawal of Notice No. 25-09-01-SC does not preclude the FAA from issuing another notice on the subject matter in the future or committing the agency to any future course of action.

In response to the White House memorandum, the FAA withdraws Notice No. 25-09-01-SC, published at 74 FR 4353 on January 26, 2009.

Issued in Renton, Washington, on February 2, 2009.
Ali Bahrami,
Manager, Transport Airplane Directorate, Aircraft Certification Service.

[FR Doc. E9-2754 Filed 2-9-09; 8:45 am]

BILLING CODE 4910-13-P